FEDERAL COMMUNICATIONS COMMISSION

47 CFR Part 74

[MB Docket No. 08-253; FCC 09-36]

Replacement Digital Television Translator Service

AGENCY: Federal Communications Commission.

ACTION: Final rule; announcement of effective date.

SUMMARY: In this document, the Commission announces that the Office of Management and Budget (OMB) has approved, for a period of six months, the information collection requirement associated with a previously published rule document, and that this rule will take effect on June 19, 2009. On May 20, 2009, the Commission published the summary document of the Report and Order, In the Matter of Amendment of Parts 73 and 74 of the Commission's Rules to Establish Rules for Replacement Digital Low Power Television Translator Stations, MB Docket No. 08-253, FCC 09-36. The Ordering Clause of the Report and Order stated that the Commission would publish notification in the Federal Register announcing when OMB approval for this rule section which contains an information collection requirement has been received and when the revised rule will take effect. This notice is consistent with the statement in the Report and Order.

DATES: The effective date for § 74.787(a)(5)(i), added at 74 FR 23650, May 20, 2009, is June 19, 2009.

FOR FURTHER INFORMATION CONTACT: For additional information, please contact Shaun Maher, Shaun.Maher@fcc.gov, of the Media Bureau, Video Division, (202) 418-1600.

SUPPLEMENTARY INFORMATION: This document announces that, on May 21, 2009, OMB approved, for a period of six months, the information collection requirement contained in § 74.787(a)(5)(i) of the rules. The Commission publishes this notice to announce the effective date of this rule. If you have any comments on the burden estimates listed below, or how the Commission can improve the collections and reduce any burdens caused thereby, please contact Cathy Williams, Federal Communications Commission, Room 1-C823, 445 12th Street, SW., Washington, DC 20554. Please include OMB Control Numbers, 3060-0027 and 3060-0029, in your correspondence. The Commission will also accept your comments via the Internet if you send them to PRA@fcc.gov. To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the Commission is notifying the public that it received OMB approval on May 21, 2009, for the information collection requirement contained in the Commission's rules at 47 CFR 73.787(a)(5)(i).

Under 5 CFR part 1320, an agency may not conduct or sponsor a collection of information unless it displays a current, valid OMB Control Number.

No person shall be subject to any penalty for failing to comply with a collection of information subject to the Paperwork Reduction Act that does not display a valid OMB Control Number.

The OMB Control Number is 3060-1086 and the total annual reporting burdens and costs for respondents for this information collection are as follows:

OMB Control Numbers: 3060-1086.

OMB Approval Date: May 21, 2009.

Expiration Date: November 30, 2009.

Title: Section 74.786, Digital Channel Assignments; Section 74.787, Digital Licensing; Section 74.790, Permissible Service of Digital TV Translator and LPTV Stations; Section 74.794, Digital Emissions, and Section 74.796, Modification of Digital Transmission Systems and Analog Transmission Systems for Digital Operation.

Form Number: Not applicable.

Type of Review: Revision of a currently approved collection.

Respondents: Business or other for profit entities; Not for profit institutions; State, local or Tribal government.

Number of Respondents/Responses: 8,533 respondents; 34,790 responses.

Estimated Hours per Response: 0.50-4 hours.

Frequency of Response: Recordkeeping requirement; One-time reporting requirement; Third party disclosure requirement.

Total Annual Burden: 55,542 hours.

Total Annual Cost: $95,767,200.

Obligation to Respond: Required to obtain or retain benefits. The statutory authority for this information collection is contained in Section 301 of the Communications Act of 1934, as amended.

Nature and Extent of Confidentiality: There is no need for confidentiality with this collection of information.

Privacy Act Assessment: No impact(s).

Needs and Uses: On May 8, 2009, the Commission adopted the Report and Order, In the Matter of Amendments of Parts 73 and 74 of the Commission's Rules to Establish Rules for Replacement Digital Low Power Television Translator Stations; MB Docket No. 08-253, FCC 09-36 (released May 8, 2009). In this Report and Order, the Commission created a new “replacement” digital television translator service to permit full-service television stations to continue to provide service to viewers within their analog coverage areas who have lost service as a result of those stations' digital transition. Replacement digital translators can be licensed solely on digital television channels 2 through 51 and with secondary frequency status. Unlike other television translator licenses, the replacement digital television translator license will be associated with the full-service station's main license and will have the same four letter call sign as its associated main station. As a result, a replacement digital television translator license may not be separately assigned or transferred and will be renewed or assigned along with the full-service station's main license. Almost all other rules associated with television translator stations are applied to replacement digital television translators.

Moreover, the Report and Order adopts an information collection requirement contained in 47 CFR 74.787(a)(5)(i). 47 CFR 74.787(a)(5)(i) states that an application for a replacement digital television translator may be filed by a full-service television station that can demonstrate that a portion of its analog service area will not be served by its full, post-transition digital facilities. The service area of the replacement digital television translators shall be limited to only a demonstrated loss area. However, an applicant for a replacement digital television translator may propose a de minimis expansion of its full-service pre-transition analog service area upon demonstrating that it is necessary to replace its post-transition analog loss area.

Congress has mandated that after June 12, 2009, full-power television broadcast stations must transmit only in digital signals, and may no longer transmit analog signals. Therefore, this collection of information will allow full-power DTV stations to use replacement digital television translators to meet their statutory responsibilities and begin operations on their final, post-transition (digital) channels by their construction deadlines. Replacement digital television translators will provide DTV broadcasters with an important tool for providing optimum signal coverage to their pre-transition analog viewers. For some broadcasters, replacement digital television translators may offer the only option for continuing to provide over-the-air service to pre-transition analog viewers.

Federal Communications Commission.
Marlene H. Dortch,
Secretary.

[FR Doc. E9-12836 Filed 6-1-09; 8:45 am]

BILLING CODE 6712-01-P